INTERNATIONAL TRADE COMMISSION

[Inv. No 337-TA-424]

Certain Cigarettes and Packaging Thereof; Notice of Commission Determinations To Extend the Deadline for Determining Whether To Review an Initial Determination Finding a Violation of Section 337 and To Extend the Target Date for Completing the Investigation

AGENCY: U.S. International Trade Commission.

ACTION: Notice.

SUMMARY: Notice is hereby given that the U.S. International Trade Commission has determined: (1) To extend the deadline for determining whether to review the final initial determination (ID) on violation by three weeks, or until August 28, 2000, and (2) to extend the target date for completing the investigation by three weeks, or until October 16, 2000.

FOR FURTHER INFORMATION CONTACT: Shara L. Aranoff, Esq., Office of the General Counsel, U.S. International Trade Commission, telephone 202-205-3090, e-mail saranoff@usitc.gov. Hearing-impaired persons are advised that information can be obtained by contacting the Commission's TDD terminal on 202-205-1810. General information concerning the Commission may also be obtained by accessing its Internet server (http://www.usitc.gov).

SUPPLEMENTARY INFORMATION: The Commission instituted this trademark-based investigation on September 16, 1999, based on a complaint filed by Brown & Williamson Tobacco Corp. alleging violations of section 337 by reason of (a) infringement of 11 federally registered U.S. trademarks; (b) unfair competition under the Lanham Act; (c) improper importation of products under the Lanham Act; and (d) dilution of the registered trademarks.

On June 22, 2000, the presiding administrative law judge (“ALJ”) issued her final ID on the merits in this investigation, finding a violation of section 337. The ALJ also issued her recommended determination on remedy and bonding. The Commission has determined to extend its deadline for determining whether to review the final ID from August 7, 2000, to August 28, 2000, and to extend the target date for completion of the investigation from September 25, 2000, to October 16, 2000.

This action is taken under the authority of section 337 of the Tariff Act of 1930 (19 U.S.C. 1337) and rules 210.42(h)(2) and 210.51(a) of the Commission's Rules of Practice and Procedure (19 CFR 210.42(h)(2) and 210.51(a)).

Copies of the nonconfidential version of the ID and all other nonconfidential documents filed in connection with this investigation are or will be available for inspection during official business hours (8:45 a.m. to 5:15 p.m.) in the Office of the Secretary, U.S. International Trade Commission, 500 E Street, SW., Washington, DC 20436, telephone 202-205-2000.

By order of the Commission.
Issued: June 29, 2000.
Donna R. Koehnke,
Secretary.

[FR Doc. 00-17079 Filed 7-5-00; 8:45 am]

BILLING CODE 7020-02-P